DEPARTMENT OF TRANSPORTATION

Federal Motor Carrier Safety Administration

[Docket No. FMCSA-2006-26367]

Motor Carrier Safety Advisory Committee Public Meeting

AGENCY: Federal Motor Carrier Safety Administration (FMCSA), DOT.

ACTION: Notice of Motor Carrier Safety Advisory Committee Meetings.

SUMMARY: FMCSA announces that the Motor Carrier Safety Advisory Committee (MCSAC) will hold committee meetings on December 1, 2008, and December 10, 2008. The meetings are open to the public.

DATES: The meetings will be held on December 1, 2008, from 12 p.m. to 1 p.m. Eastern Standard Time, and December 10, 2008, from 1 p.m. to 5 p.m. Eastern Standard Time.

ADDRESSES: The meeting on December 1, 2008, will be held by conference call. The meeting on December 10, 2008, will be held at the U.S. Department of Transportation, Media Center, 1200 New Jersey Avenue, SE., Washington, DC 20590.

FOR FURTHER INFORMATION CONTACT: Mr. Jeffrey Miller, Chief, Strategic Planning and Program Evaluation Division, Office of Policy Plans and Regulation, Federal Motor Carrier Safety Administration, U.S. Department of Transportation, 1200 New Jersey Avenue, SE., Washington, DC 20590, (202) 366-1258, mcsac@dot.gov.

SUPPLEMENTARY INFORMATION:

I. Background

Section 4144 of the Safe, Accountable, Flexible, Efficient Transportation Equity Act: A Legacy for Users (SAFETEA-LU, Pub. L. 109-59) required the Secretary of the U.S. Department of Transportation to establish in FMCSA, a Motor Carrier Safety Advisory Committee. The advisory committee provides advice and recommendations to the FMCSA Administrator on motor carrier safety programs and motor carrier safety regulations. The advisory committee operates in accordance with the Federal Advisory Committee Act (5 U.S.C. App 2).

II. Meeting Participation

December 1, 2008, Conference Call: The meeting is open to the public and FMCSA invites participation by all interested parties, including motor carriers, drivers, and representatives of motor carrier associations. For information on the agenda, bridge line and Web link for the conference call, please send an e-mail to mcsac@dot.gov. For information on facilities or services for individuals with disabilities or to request special assistance, please e-mail your request to mcsac@dot.gov by November 28, 2008. During the December 1, 2008, conference call, oral comments will not be taken from the public due to time limitations. Members of the public are encouraged to submit written comments by November 28, 2008, identified by Federal Docket Management System (FDMC) Docket Number FMCSA-2006-26367.

December 10, 2008, Meeting: Please note that participants will need to be pre-cleared in advance of the meeting in order to enter the U.S. Department of Transportation headquarters building. By December 5, 2008, e-mail mcsac@dot.gov if you plan to attend the meeting to facilitate the pre-clearance process. For information on facilities or services for individuals with disabilities or to request special assistance, please e-mail your request to mcsac@dot.gov by December 5, 2008. For information on the agenda, please send an e-mail to mcsac@dot.gov. As a general matter, the committee will make time available for public comments at the meeting at 3 p.m. Eastern Standard Time. The time available will be reasonably divided among those who have signed up to address the committee; however, no one will have more than 15 minutes. Individuals wishing to address the committee should send an e-mail to mcsac@dot.gov by close of business on December 5, 2008. Individuals wanting to present written materials to the committee should submit written comments identified by Federal Docket Management System (FDMC) Docket Number FMCSA-2006-26367 using any of the following methods:

• Federal eRulemaking Portal: Go to http://www.regulations.gov. Follow the online instructions for submitting comments.

• Fax: 202-493-2251.

• Mail: Docket Management Facility; U.S. Department of Transportation, 1200 New Jersey Avenue, SE., West Building, Room W12-140, Washington, DC 20590.

• Hand Delivery: U.S. Department of Transportation, 1200 New Jersey Avenue, SE., Room W12-140, Washington, DC, between 9 a.m. and 5 p.m., Monday through Friday, except Federal holidays.

Issued on: November 18, 2008.
Larry W. Minor,
Associate Administrator for Policy and Program Development.

[FR Doc. E8-27859 Filed 11-20-08; 8:45 am]

BILLING CODE 4910-EX-P